DEPARTMENT OF THE INTERIOR

Fish and Wildlife Service

Draft Environmental Impact Statement, Draft Environmental Impact Report, and Receipt of an Application for an Incidental Take Permit for the Western Riverside County Multiple Species Habitat Conservation Plan

AGENCY: Fish and Wildlife Service, Interior.

ACTION: Notice of availability; reopening of comment period.

SUMMARY: The Fish and Wildlife Service is reopening the comment period on the draft Multiple Species Habitat Conservation Plan, draft Implementing Agreement, and Draft Environmental Impact Statement for an incidental take permit for 146 species in western Riverside County, California.

DATES: To ensure consideration, we must receive written comments on or before March 14, 2003.

ADDRESSES: Send comments to Mr. Jim Bartel, Field Supervisor, U.S. Fish and Wildlife Service, 2730 Loker Avenue West, Carlsbad, CA 92008. You also may submit comments by facsimile to (760) 431-9618.

FOR FURTHER INFORMATION CONTACT: Ms. Karen Evans, Assistant Field Supervisor, at the Carlsbad Fish and Wildlife Office (see ADDRESSES); telephone (760) 431-9440.

SUPPLEMENTARY INFORMATION: The County of Riverside (County), Riverside County Flood Control and Water Conservation District, Riverside County Transportation Commission, Riverside County Parks and Open Space District, Riverside County Waste Department, California Department of Transportation, California Department of Parks and Recreation, and 14 western Riverside County cities (Applicants) have applied to the U.S. Fish and Wildlife Service (Service) for an incidental take permit pursuant to section 10(a)(1)(B) of the Endangered Species Act of 1973, as amended (Act). The Applicants seek a permit to authorize incidental take of 146 species, including unlisted species that may become listed during the term of the permit. An incidental take permit is required to authorize take of listed species during urban and rural development in the approximately 5,095-square-kilometer (1.26-million-acre (1,967-square-mile)) Plan Area in western Riverside County. The proposed term of the permit is 75 years.

On November 15, 2002, we published “Notice of Availability of a Draft Environmental Impact Statement/Environmental Impact Report and Receipt of an Application for an Incidental Take Permit for the Western Riverside County Multiple Species Habitat Conservation Plan” (67 FR 69236). In that notice, we requested public comment on the draft Multiple Species Habitat Conservation Plan (MSHCP) and draft Implementing Agreement. We also made available for public review a Draft Environmental Impact Statement, which is the Federal portion of the Draft Environmental Impact Statement/Environmental Impact Report (EIS/EIR), to analyze the impacts of the MSHCP. The analyses provided in the Draft EIS/EIR are intended to inform the public of our proposed action, alternatives, and associated impacts; address public comments received during the scoping period for the Draft EIS/EIR; disclose the direct, indirect, and cumulative environmental effects of the proposed action and each of the alternatives; and indicate any irreversible commitment of resources that would result from implementation of the proposed action.

The comment period for the November 15, 2002, notice closed on January 14, 2003. We are now reopening the comment period for 15 days on the draft MSHCP, draft Implementing Agreement, and Draft EIS. The County of Riverside has decided not to reopen the comment period on the Draft EIR. Comments already submitted on the Draft EIS/EIR, draft Implementing Agreement, and draft MSHCP need not be resubmitted, as they will be fully considered in the final documents.

Authority: This notice is provided pursuant to section 10(a) of the Endangered Species Act, as amended (16 U.S.C. 1531 et seq.), and Service regulations (40 CFR 1506.6) for implementing the National Environmental Policy Act of 1969, as amended (42 U.S.C. 4321 et seq.).

Dated: February 13, 2003.
Ken McDermond,
Deputy Manager, California/Nevada Operations Office, Sacramento, CA.

[FR Doc. 03-4591 Filed 2-24-03; 4:31 pm]

BILLING CODE 4310-55-P